FEDERAL MARITIME COMMISSION

Ocean Transporation Intermediary License; Correction

In the Federal Register Notice listing applicants for licenses as Non-Vessel Operating Common Carrier and Ocean Freight Forwarder—Ocean Transportation Intermediary published October 24, 2001 (66 FR 53795) the reference to Direct Shipping Line is corrected to read: “Direct Shipping Corp.”

Dated: December 14, 2001.
Bryant L. VanBrakle,
Secretary.

[FR Doc. 01-31267 Filed 12-18-01; 8:45 am]

BILLING CODE 6730-01-P